DEPARTMENT OF TRANSPORTATION

Federal Aviation Administration

14 CFR Part 39

[Docket No. FAA-2025-0914; Project Identifier MCAI-2024-00413-R]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model AS 332L2 and EC 225LP helicopters. This proposed AD was prompted by reports of overlengthened and deformed attachment bolts installed on the link of the main gearbox (MGB) suspension bar attachment bracket. This proposed AD would require replacing certain attachment bolts on the MGB suspension bar fittings, inspecting the removed bolts, and reporting the results of this inspection to Airbus Helicopters. The FAA is proposing this AD to address the unsafe condition on these products.

DATES: The FAA must receive comments on this NPRM by July 17, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0914; or in person at Docket Operations between 9 a.m. and 5 p.m., Monday through Friday, except Federal holidays. The AD docket contains this NPRM, the mandatory continuing airworthiness information (MCAI), any comments received, and other information. The street address for Docket Operations is listed above.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0914.

FOR FURTHER INFORMATION CONTACT: George Weir, Aviation Safety Engineer, FAA, 1600 Stewart Avenue, Suite 410, Westbury, NY 11590; phone: (817) 222-4045; email: george.a.weir@faa.gov.

SUPPLEMENTARY INFORMATION:

Comments Invited

The FAA invites you to send any written relevant data, views, or arguments about this proposal. Send your comments to an address listed under the ADDRESSES section. Include “Docket No. FAA-2025-0914; Project Identifier MCAI-2024-00413-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to George Weir, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2024-0142, dated July 17, 2024 (EASA AD 2024-0142) (also referred to as “the MCAI”), to correct an unsafe condition on Airbus Helicopters Model AS 332 L2 and EC 225 LP helicopters with a new link of MGB suspension bar attachment brackets installed under Airbus Helicopters modification 07.28496 (helicopters in production) or using certain Airbus Helicopters alert service bulletins (helicopters in service). The MCAI states that two attachment screws (bolts) were found overlengthened and deformed on helicopters having the new link of the MGB suspension bar attachment brackets. The MCAI further states the investigation is still ongoing and that collecting additional data to support the investigation is part of addressing the unsafe condition. The MCAI states that it is an interim action and further AD action may follow.

The FAA is proposing this AD to prevent structural failure of the MGB suspension bar attachment bolts, which, if not addressed, could result in failure of an MGB attachment assembly, detachment of an MGB suspension bar, and consequent loss control of the helicopter.

You may examine the MCAI in the AD docket at regulations.gov under Docket No. FAA-2025-0914.

Material Incorporated by Reference Under 1 CFR Part 51

EASA AD 2024-0142 specifies procedures for replacing attachment screw part number 332A22-3644-20 with a part that is new (never been installed), inspecting the removed screws, and reporting the inspection results to Airbus Helicopters. The attachment screws are installed on the left-hand and right-hand rear MGB suspension bar fittings. Additionally, EASA AD 2024-0142 prohibits installing that part-numbered attachment screw on any helicopter unless it is installed in accordance with certain service instructions.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would require accomplishing the actions specified in EASA AD 2024-0142, described previously, as incorporated by reference, except for any differences identified as exceptions in the regulatory text of this proposed. See “Differences Between this AD and the MCAI” for a discussion of these differences.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0142 by reference in the FAA final rule. This proposed AD would, therefore, require compliance with EASA AD 2024-0142 in its entirety through that incorporation, except for any differences identified as exceptions in the regulatory text of this proposed AD. Material referenced in EASA AD 2024-0142 for compliance will be available at regulations.gov under Docket No. FAA-2025-0914 after the FAA final rule is published.

Differences Between This AD and the MCAI

Where the material referenced in EASA AD 2024-0142 specifies contacting Airbus Helicopters for instructions if the difference between (L4) and (L3) is more than 1.6 mm (.063 in), this proposed AD would require using a repair method approved by the FAA, EASA, or Airbus Helicopters' EASA Design Organization Approval.

Where EASA AD 2024-0142 prohibits installing an affected part unless it has been installed in accordance with certain service instructions, this proposed AD would not contain that prohibition.

Interim Action

The FAA considers this proposed AD would be an interim action. The inspection reports that would be required by this AD would enable the manufacturer to obtain better insight into the nature and cause of the screw deformation and eventually to develop final action to address the unsafe condition. Once a final action has been identified, the FAA might consider further rulemaking then.

Costs of Compliance

The FAA estimates that this AD, if adopted as proposed, would affect 38 helicopters of U.S. registry. Labor rates are estimated at $85 per hour. Based on these numbers, the FAA estimates the following costs to comply with this proposed AD.

Replacing a set of eight rear MGB fitting attachment bolts would take 16 work-hours and parts would cost $587 for an estimated cost of $1,947 per helicopter and $73,986 for the U.S. fleet, per replacement cycle.

Reporting inspection results would take 1 work-hour for an estimated cost of $85 per helicopter.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2025-0914; Project Identifier MCAI-2024-00413-R.

(a) Comments Due Date

The FAA must receive comments on this airworthiness directive (AD) by July 17, 2025.

(b) Affected ADs

None.

(c) Applicability

This AD applies to Airbus Helicopters Model AS 332L2 and EC 225LP helicopters, certificated in any category, as identified in European Union Aviation Safety Agency AD 2024-0142, dated July 17, 2024 (EASA AD 2024-0142).

(d) Subject

Joint Aircraft System Component (JASC) Code 6330, Main rotor transmission mount.

(e) Unsafe Condition

This AD was prompted by reports of overlengthened and deformed attachment bolts installed on the new link of the main gearbox (MGB) suspension bar attachment bracket. The FAA is issuing this AD to prevent structural failure of the MGB suspension bar attachment bolts. The unsafe condition, if not addressed, could result in failure of an MGB attachment assembly, detachment of an MGB suspension bar, and consequent loss control of the helicopter.

(f) Compliance

Comply with this AD within the compliance times specified, unless already done.

(g) Requirements

Except as specified in paragraphs (h) and (i) of this AD: Comply with all required actions and compliance times specified in, and in accordance with, EASA AD 2024-0142.

Note 1 to paragraph (g): EASA AD 2024-0142 and Airbus Helicopters material that is referenced in EASA AD 2024-0142 refer to MGB suspension bar attachment “bolts” as “screws.”

(h) Exceptions to EASA AD 2024-0142

(1) Where paragraph (1) of EASA AD 2024-0142 requires compliance within “2,500 flight hours since first installation,” this AD requires compliance as specified in paragraphs (h)(1)(i) and (ii) of this AD.

(i) For each affected part that has accumulated 2,500 or more total hours time-in-service (TIS) or if the total hours TIS on the affected part cannot be determined: Before further flight, and thereafter at intervals not to exceed 2,500 total hours TIS on the affected part.

(ii) For each affected part that has accumulated less than 2,500 total hours TIS: Before the affected part accumulates 2,500 total hours TIS, and thereafter at intervals not to exceed 2,500 total hours TIS on the affected part.

(2) Where the material referenced in EASA AD 2024-0142 specifies discarding parts, this AD requires removing those parts from service.

(3) Instead of the reporting requirement in paragraph (3) of EASA AD 2024-0142, this AD requires reporting the results of each inspection to Airbus Helicopters at the compliance time specified in paragraph (h)(3)(i) or (ii) of this AD. The report must include the total hours TIS (if known) on each bolt, the batch number and serial number of the bolt, the length of the bolt, a detailed description of any findings, any previous maintenance, and any photos (if possible).

(i) For an inspection done on or after the effective date of this AD: Submit the report within 30 days after the inspection.

(ii) For an inspection done before the effective date of this AD: Submit the report within 30 days after the effective date of this AD.

(4) This AD does not require paragraph (4) of EASA AD 2024-0142.

(5) Where the material referenced EASA AD 2024-0142 specifies contacting Airbus Helicopters for repair instructions, this AD requires using a repair method approved by the Manager, International Validation Branch, FAA; or EASA; or Airbus Helicopters' EASA Design Organization Approval (DOA). If approved by the DOA, the approval must include the DOA-authorized signature.

(6) This AD does not adopt the “Remarks” section of EASA AD 2024-0142.

(i) Alternative Methods of Compliance (AMOCs)

(1) The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov.

(2) Before using any approved AMOC, notify your appropriate principal inspector, or lacking a principal inspector, the manager of the responsible Flight Standards Office.

(j) Additional Information

For more information about this AD, contact George Weir, Aviation Safety Engineer, FAA, 1600 Stewart Avenue, Suite 410, Westbury, NY 11590; phone: (817) 222-4045; email: george.a.weir@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0142, dated July 17, 2024.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 23, 2025.
Steven W. Thompson,
Acting Deputy Director, Compliance & Airworthiness Division, Aircraft Certification Service.

[FR Doc. 2025-09895 Filed 5-30-25; 8:45 am]

BILLING CODE 4910-13-P